DEPARTMENT OF HEALTH AND HUMAN SERVICES

Agency for Healthcare Research and Quality

National Advisory Council for Healthcare Research and Quality: Request for Nominations for Public Members

AGENCY: Agency for Healthcare Research and Quality (AHRQ), HHS.

ACTION: Notice of request for nominations for public members.

SUMMARY: Section 921 (now Section 941 of the Public Health Service Act (PHS Act)), 42 U.S.C. 299c, established a National Advisory Council for Healthcare Research and Quality (the Council). The Council is to advise the Secretary of HHS (Secretary) and the Director of the Agency for Healthcare Research and Quality (AHRQ) on activities proposed or undertaken to carry out the agency mission including providing guidance on (A) Priorities for health care research, (B) the field of health care research including training needs and information dissemination on health care quality and (C) the role of the Agency in light of private sector activity and opportunities for public private partnerships.

Seven current members' terms will expire in November 2010. To fill these positions in accordance with the legislative mandate establishing the Council, we are seeking individuals who are distinguished: (1) In the conduct of research, demonstration projects, and evaluations with respect to health care; (2) in the fields of health care quality research or health care improvement; (3) in the practice of medicine; (4) in other health professions; (5) in the fields of health care economics, information systems, law, ethics, business, or public policy; and (6) individuals who could represent the interests of patients and consumers of health care; and (7) the private health care sector (including health plans, providers, and purchasers) possibly including distinguished administrators of health care delivery systems., Individuals are particularly sought with experience and success in activities specified in the summary above.

DATES: Nominations should be received on or before 60 days after date of publication.

ADDRESSES: Nominations should be sent to Ms. Karen Brooks, AHRQ, 540 Gaither Road, Room 3006, Rockville, Maryland 20850. Nominations may also be e-mailed to mailto: AHRQ National Advisory Council@AHRQ.hhs.gov or faxed to (301) 427-1201.

FOR FURTHER INFORMATION CONTACT: Ms. Karen Brooks, AHRQ, at (301) 427-1801.

SUPPLEMENTARY INFORMATION: Section 941 of the PHS Act, 42 U.S.C. 299c, provides that the Secretary shall appoint to the National Advisory council for Healthcare Research and Quality twenty one appropriately qualified individuals and specifies that at least seventeen members shall be representatives of the public and at least one member shall be a specialist in the rural aspects of one or more of the professions or fields listed in the above summary. In addition, the Secretary is directed to designate, as ex officio members, representatives from Federal agencies specified in the authorizing legislation, principally agencies that conduct or support health care research, as well as other Federal officials the Secretary may consider appropriate. The Council meets in the Washington, DC, metropolitan area, generally in Rockville, Maryland, approximately three times a year to provide broad guidance to the Secretary and AHRQ's Director, as described above, on the direction of and programs undertaken by AHRQ.

Seven individuals will be selected presently by the Secretary to serve on the Council beginning with the meeting in the spring of 2011. Members generally serve 3-year terms. Appointments are staggered to permit an orderly rotation of membership.

Interested persons may nominate one or more qualified persons for membership on the Council. Self-nominations are accepted. Nominations shall include: (1) A copy of the nominee's resume or curriculum vitae; and (2) a statement that the nominee is willing to serve as a member of the Council. Selected candidates will be asked to provide detailed information concerning their financial interests, consultant positions and research grants and contracts, to permit evaluation of possible sources of conflict of interest. Please note that once you are nominated, AHRQ may consider your nomination for future positions on the Council. In accordance with a Memorandum from the President dated June 18, 2010, Federally registered lobbyists are not eligible for positions on Federal advisory councils.

The Department seeks broad and diverse geographic representation on the Council. In addition, since AHRQ is mandated to conduct and support research concerning priority populations, which under 42 U.S.C. 299(c) includes: Low-income groups; minority groups; women; children; the elderly; and individuals with special health care needs, including individuals with disabilities and individuals who need chronic care or end-of-life health care, nominations of individuals with expertise in health care for these priority populations are encouraged.

Dated: June 25, 2010.
Carolyn M. Clancy,
Director.

[FR Doc. 2010-16102 Filed 7-2-10; 8:45 am]

BILLING CODE 4160-90-M